DEPARTMENT OF COMMERCE

National Oceanic and Atmospheric Administration

[RTID 0648-XD888]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Main Hawaiian Islands (MHI) Deep 7 Bottomfish (BF) Risk of Overfishing (P*) Working Group (WG), MHI Social, Economic, Ecological, and Management WG to discuss and make recommendations on fishery management issues in the Western Pacific Region.

DATES: The meetings will be held on May 7, 2024. For specific times and agendas, see SUPPLEMENTARY INFORMATION.

ADDRESSES: The Western Pacific Fishery Management Council (Council) will hold its Main Hawaiian Islands (MHI) Deep 7 Bottomfish (BF) Risk of Overfishing (P*) Working Group (WG), MHI Social, Economic, Ecological, and Management (SEEM) WG meetings will be held in a hybrid format with in-person and remote participation (Google Meets) options available for the members and the public. In person attendance for members and public will be hosted at the Council office, 1164 Bishop Street, Suite 1400, Honolulu, HI 96813. Instructions for connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Contact Kitty M. Simonds, Executive Director, Western Pacific Fishery Management Council; phone: (808) 522-8220.

SUPPLEMENTARY INFORMATION: The MHI Deep 7 P* WG will meet on Tuesday, May 7, from 9 a.m. to 12 p.m., MHI Deep 7 SEEM WG will meet on Tuesday, from 1 p.m. to 4 p.m. All times listed in HST.

Public Comment periods will be provided in the agendas. The order in which agenda items are addressed may change. The meetings will run as late as necessary to complete scheduled business.

Schedule and Agenda for the MHI Deep 7 Bottomfish P* Working Group

Tuesday, May 7, 2024, 9 a.m.-12 p.m. (Hawaii Standard Time)

1. Welcome and Introductions

2. Recommendations from previous Council meetings

3. Overview of the P* process

4. Report on 2023 Benchmark Stock Assessment for the MHI Deep 7

5. Working group scoring session

a. Assessment information

b. Uncertainty characterization

c. Stock status

d. Productivity and susceptibility

6. General Discussion

7. Public Comment

8. Summary of scores and P* Recommendations

Schedule and Agenda for the MHI Deep 7 Bottomfish SEEM Working Group

Tuesday, May 7, 2024, 1 p.m.-4 p.m. (Hawaii Standard Time)

1. Introductions

2. Overview of the SEEM process

3. Scoring of the SEEM Dimensions and Criteria Scores

a. Social

b. Economic

c. Ecological

d. Monitoring

e. Management Uncertainty

4. Finalizing the SEEM scores

5. Public Comment

6. Summary of scores and SEEM Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: April 18, 2024.
Rey Israel Marquez,
Acting Deputy Director, Office of Sustainable Fisheries, National Marine Fisheries Service.

[FR Doc. 2024-08652 Filed 4-22-24; 8:45 am]

BILLING CODE 3510-22-P